DEPARTMENT OF HOMELAND SECURITY

Transportation Security Administration

Intent To Request Approval From OMB of One New Public Collection of Information: Certified Cargo Screening Pilot Program

AGENCY: Transportation Security Administration, DHS.

ACTION: 60-day notice.

SUMMARY: The Transportation Security Administration (TSA) invites public comment on a new Information Collection Request (ICR) abstracted below that we will submit to the Office of Management and Budget (OMB) for approval in compliance with the Paperwork Reduction Act. The ICR describes the nature of the information collection and its expected burden. The collection will allow TSA to collect two broad categories of information from entities that wish to become Certified Cargo Screening Facilities (CCSF): (1) Personal information to allow TSA to conduct security threat assessments on key individuals employed by the CCSFs; and (2) data demonstrating air cargo throughput and other information from which TSA can determine the effectiveness of the CCSF's performance. Under this pilot, CCSFs must also maintain screening and other security-related training records.

DATES: Send your comments by June 12, 2009.

ADDRESSES: Comments may be mailed or delivered to Ginger LeMay, Office of Information Technology, TSA-11, Transportation Security Administration, 601 South 12th Street, Arlington, VA 20598-6011.

FOR FURTHER INFORMATION CONTACT: Ginger LeMay at the above address, or by telephone (571) 227-3616 or e-mail ginger.lemay@dhs.gov.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Purpose and Description of Data Collection

TSA is seeking approval of this ICR in order to secure passenger aircraft carrying cargo by the deadlines set out in the Implementing Recommendations of the 9/11 Commission Act of 2007.

Section 1602 of the Implementing Recommendations of the 9/11 Commission Act of 2007 (Pub. L. 110-53, 121 Stat. 266, 278, Aug. 3, 2007) requires the development of a system to screen 50 percent of the cargo transported on a passenger aircraft by February 2009 and to screen 100 percent of such cargo by August 2010. TSA plans to issue an interim final rule (IFR) amending 49 CFR to implement this statutory requirement. In order to comply with the statutory mandate, TSA has developed a program that will allow shippers, indirect air carriers, and other entities to screen cargo off-airport before it is tendered to aircraft operators for transport on passenger aircraft. In the absence of such a program, all air cargo screening required by the 9/11 Commission Act would have to be accomplished by the aircraft operators at the airport. Severe delays and economic disruption would result.

Before issuing the IFR, however, TSA needs to collect information during an initial pilot program. Accordingly, TSA must proceed with a separate ICR for the pilot program in order to meet the Congressional mandate. This ICR will allow TSA to collect two broad categories of information from shippers, indirect air carriers, and other entities that wish to become CCSFs:

(1) Personal information to allow TSA to conduct security threat assessments (STA) on key individuals employed by the CCSFs; and

(2) Data demonstrating air cargo throughput and other information from which TSA can determine eligibility to become a CCSF and the effectiveness of the CCSF's performance.

TSA will certify qualified facilities as CCSFs. CCSFs may screen cargo off-airport and must implement measures to ensure a secure chain of custody from the point of screening to the point at which the cargo is tendered to the aircraft operator or other regulated entity for transport. This pilot creates several new information collections. Outlined below are the specifics of each information collection.

Data Collection

Entities seeking to become CCSFs are required to submit an application to TSA at least 90 days before the intended date of operation. CCSF applicants will submit applications and related information either electronically through e-mail or through the online Air Cargo Document Management System under development. TSA will also accept applications by postal mail. Once TSA approves the application, TSA will allow the regulated entity to operate as a CCSF in accordance with TSA standards.

TSA will require CCSF applicants to ensure that individuals performing screening and related functions under the IFR have successfully completed an STA conducted by TSA. In addition, Security Coordinators and their alternates for CCSFs will need STAs. CCSFs must submit personally identifiable information on these individuals to TSA so that TSA can conduct an STA.

CCSF facilities must provide information on the amount of cargo screened at an approved facility. CCSFs must also maintain screening and other security-related training records.

Estimated Burden Hours

TSA has identified four separate information collections under this ICR. These four collections will affect an estimated total of 2,667 unique respondents (shippers, indirect air carriers, and other entities) over the three years of the PRA analysis. Collectively, these four information collections represent an estimated average of 89,011 responses annually, for an average annual hour burden of 152,490 hours.

1. STAs. All pilot participants will be required to have certain employees undergo STAs. TSA estimates the time to complete an STA application at 15 minutes per individual. TSA estimates an average of 2,667 CCSFs responding annually with an average of 20 applicants each. This yields an estimated 53,340 STAs (2,667 CCSFs × 20 applicants) for CCSFs. From this, we derive an annual hour burden of 13,335 hours (53,340 STAs × 0.25 hrs).

2. Screening and Other Security-Related Training Records. All CCSFs will be required to maintain screening and other security-related training records for employees in the program. TSA estimates a time burden of approximately five minutes annually for each CCSF to file the training records. TSA considers the estimated average annual CCSFs impacted to be 2,667. From this, TSA derives an annual hour burden of approximately 221 hours (2,667 CCSFs × 0.083 hrs).

3. Applications. Entities desiring to become CCSFs will send TSA an application for consideration. TSA estimates that it will receive an average of 1,000 enrollment applications annually, and that these applications will require an average of 15 minutes each to complete, resulting in an annual burden of 250 hours (1,000 CCSFs × 0.25 hrs).

4. Cargo Volume Reports. Finally, TSA estimates that approximately 2,667 CCSFs will complete monthly cargo volume reports taking approximately one hour each week. This creates an estimated annual burden of approximately 138,684 hours (2,667 CCSFs × 1 hr × 52 weeks).

Use of Results

TSA will use the information gathered as part of this pilot program for the purpose of “beta testing” the many processes and procedures associated with the program. TSA will utilize the results to evaluate, refine, and improve the final certified cargo screening program in the IFR.

Issued in Arlington, Virginia, on April 7, 2009.
Ginger LeMay,
Paperwork Reduction Act Officer, Business Improvements and Communications, Office of Information Technology.

[FR Doc. E9-8350 Filed 4-10-09; 8:45 am]

BILLING CODE 9110-05-P